DEPARTMENT OF DEFENSE

Department of the Army

[Docket ID USA-2010-0027]

Privacy Act of 1974; System of Records; Correction

AGENCY: Department of the Army, Department of Defense (DoD).

ACTION: Notice to add a system of records; correction.

SUMMARY: On November 22, 2010 (75 FR 71081-71083), DoD published a notice announcing its intent to add a new Privacy Act System of Records. The incorrect system identification number was cited. This notice corrects that error.

DATES: Effective July 28, 2011.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: On November 22, 2010, DoD published a notice announcing its intent to add a new system to its inventory of Privacy Act System of Records: Department of Defense Non-appropriated Fund Health Benefits (DoDNHB). Subsequent to the publication of that notice, DoD discovered that the system identification number on page 71082 was incorrectly published.

Correction

In the notice (FR Doc. 2010-29339) published on November 22, 2010 (75 FR 71081-71083) make the following correction. On page 71082, in the first column, in the line preceding the SYSTEM NAME heading, the system identification number “A0215-3a FMWRC (DoD)” should read “A0215-1a FMWRC (DoD)”.

Dated: July 25, 2011.
Aaron Siegel,
Alternate OSD Federal Register Liaison Officer, Department of Defense.

[FR Doc. 2011-19091 Filed 7-27-11; 8:45 am]

BILLING CODE 5001-06-P